DEPARTMENT OF ENERGY

Notice of Intent for Bipartisan Infrastructure Law, Section 40551: Weatherization Assistance Program Enhancement & Innovation FOA

AGENCY: Office of State and Community Energy Programs, U.S. Department of Energy.

ACTION: Notice of intent.

SUMMARY: The U.S. Department of Energy (DOE) Office of State and Community Energy Programs (SCEP) issued a Notice of Intent (NOI) to issue a Funding Opportunity Announcement (FOA) entitled “WAP Enhancement & Innovation” in accordance with the Infrastructure Investment and Jobs Act, also known as the Bipartisan Infrastructure Law (BIL). As stated in the NOI, the aim of this anticipated FOA is to support WAP Enhancement & Innovation, and the broader government-wide approach to deploy demonstration projects that maximize the benefits of the clean energy transition as the nation works to curb the climate crisis, empower workers, and advance environmental justice. The anticipated FOA will seek applications to expand the impact of DOE's existing Weatherization Assistance Program (WAP) by utilizing leveraged resources and enhanced community partnerships to perform deep energy retrofits of low-income residential buildings and empower local community representation within the energy workforce. DOE plans to seek proposals that drive innovative approaches to program coordination and service delivery, while fostering the collaboration of dynamic and diverse teams.

DATES: The NOI was issued via the Clean Energy Infrastructure eXCHANGE system on June 6, 2023 available at https://infrastructure-exchange.energy.gov/.

FOR FURTHER INFORMATION CONTACT: Ms. Brittany Price, U.S. Department of Energy, Office of State and Community Energy Programs, 1000 Independence Avenue SW, Washington, DC 20585-0121. Telephone: (240) 306-7252, Email: weatherization.innovation@hq.doe.gov. Electronic communications are recommended for correspondence.

SUPPLEMENTARY INFORMATION: Congress, through section 1011(e) of the Consolidated Appropriations Act, 2021, (Pub. L. 116-260),¹ directed DOE to establish a competitive program for WAP Enhancement & Innovation, with five (5) purposes:

¹ Codified at 42 U.S.C. 6864d.

1. Expand the number of dwelling units that are occupied by low-income persons that receive weatherization assistance by making such dwelling units weatherization-ready;

2. Promote the deployment of renewable energy in dwelling units that are occupied by low-income persons;

3. Ensure healthy indoor environments by enhancing or expanding health and safety measures and resources available to dwellings that are occupied by low-income persons;

4. Disseminate new methods and best practices among entities providing weatherization assistance; and

5. Encourage entities providing weatherization assistance to hire and retain employees who are individuals—

a. From the community in which the assistance is provided; and

b. From communities or groups that are underrepresented in the home energy performance workforce, including religious and ethnic minorities, women, veterans, individuals with disabilities, and individuals who are socioeconomically disadvantaged.

Congress established the following eight (8) award factors to consider when awarding financial assistance for WAP Enhancement & Innovation:

1. The applicant's record of constructing, renovating, repairing, or making energy efficient single-family, multifamily, or manufactured homes that are occupied by low-income persons, either directly or through affiliates, chapters, or other partners (using the most recent year for which data are available);

2. The number of dwelling units occupied by low-income persons that the applicant has built, renovated, repaired, weatherized, or made more energy efficient in the 5 years preceding the date of the application;

3. The qualifications, experience, and past performance of the applicant, including experience successfully managing and administering Federal funds;

4. The strength of an applicant's proposal to achieve one or more of the purposes stated above;

5. The extent to which such applicant will utilize partnerships and regional coordination to achieve one or more of the purposes stated above;

6. Regional and climate zone diversity;

7. Urban, suburban, and rural localities; and

8. Such other factors as the Secretary determines to be appropriate.

In response to this direction, SCEP anticipates that the FOA that may include the following three (3) Topic Areas:

• Topic Area 1—Multifamily Housing;

• Topic Area 2—Single Family & Manufactured Housing; and

• Topic Area 3—Workforce Development.

Through the FOA, SCEP tentatively envisions awarding multiple financial assistance awards in the form of grants using funds made available to WAP through section 40551 of the BIL.² From the amount appropriated for WAP, DOE intends to make a total of $25 million in BIL funds available through this opportunity, with a maximum award amount of $2 million. Eligible entities would include existing WAP Grantees, WAP Subgrantees, and other nonprofit entities. The period of performance for each award would be three (3) years.

² Section 40551 of BIL authorized $3,500,000,000 for fiscal year 2022, to remain available until expended. DOE is limited to using no more than $25,000,000 for any fiscal year to carry out WAP Enhancement & Innovation per section 1011(e), 42 U.S.C. 6864d(j)(2).

SCEP issued the NOI so that interested parties are aware of the SCEP's intention to issue this FOA in the near term. All of the information contained in the NOI is subject to change. Once the FOA has been released, SCEP will provide an avenue for potential applicants to submit questions.

Signing Authority

This document of the Department of Energy was signed on May 17, 2023, by Henry McKoy, Director of the Office of State and Community Energy Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 17, 2023.
Treena V. Garrett,
Federal Register Liaison Officer, U.S. Department of Energy.

[FR Doc. 2023-10861 Filed 5-19-23; 8:45 am]

BILLING CODE 6450-01-P